DEPARTMENT OF HEALTH AND HUMAN SERVICES

Centers for Disease Control and Prevention

[60Day-10-09AU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Minority HIV/AIDS Research Initiative (MARI) Project—Preventing HIV Risk Behaviors among Hispanic Adolescents—New—National Center for HIV/AIDS, Viral Hepatitis, Sexually Transmitted Diseases, and Tuberculosis Elimination Programs (NCHHSTP), Centers for Disease Control and Prevention (CDC).

Background and Brief Description

CDC is planning to interview Hispanic adolescents and their parents at two high schools in Miami-Dade County to facilitate the development of targeted and culturally-appropriate HIV prevention materials for Hispanic youth in Miami-Dade County. The purpose of the proposed study is to assess the efficacy of Streamlined Familias Unidas, a 5-session version of a longer efficacious, parent-centered prevention intervention developed specifically for Hispanic families. 240 Hispanic adolescents and their primary caregivers (480 total participants) from two Miami-Dade County public high schools will be recruited and randomized into two groups: (1) The streamlined 5-session Familias Unidas intervention group, and (2) a group that receives routine information about HIV from the high schools. Four times over 2 years, both groups will respond to computerized questionnaires that explore family function, sexual behaviors, etc. These assessment questionnaires will be computer-based (ACASI). The assessments are for the purpose of developing and improving HIV prevention materials and interventions that are culturally appropriate to the Hispanic population in Miami-Dade County. Family functioning, substance use, sexual behaviors, behavior problems, and community values will inform HIV intervention programs in the community.

This study will address some of the goals of CDC's “CDC HIV Prevention Strategic Plan: Extended Through 2010”. CDC plans to meet specific goals by increasing the number of behavior prevention interventions proven effective for Hispanic adolescents, and, increasing the number of Hispanic adolescents who consistently engage in behaviors that reduce risk for acquiring HIV. Additionally, the study data will provide important information that will aid in developing and improving HIV prevention interventions for Hispanic adolescents and their families.

Questionnaires will take from approximately 45 min. (caregivers) to 60 minutes (adolescents) to complete.

There is no cost to respondents other than their time.

Estimate of Annualized Burden Table
Type of respondents and questionnaire | Number of respondents | Number of responses per respondent | Average burden per response (in hours) | Total burden (in hours)
Hispanic Adolescent
| Screening | 400 | 1 | 3/60 | 20
ACASI—Baseline | 240 | 1 | 1 | 240
ACASI—4-month follow-up | 228 | 1 | 1 | 228
ACASI—12-month follow-up | 217 | 1 | 1 | 217
Primary Caregiver of Hispanic Adolescent
Screening | 400 | 1 | 3/60 | 20
ACASI—Baseline | 240 | 1 | 45/60 | 180
ACASI—4-month follow-up | 228 | 1 | 45/60 | 171
ACASI—12-month follow-up | 217 | 1 | 45/60 | 163
TOTAL |  |  |  | 1239

Dated: January 22, 2010.
Maryam I. Daneshvar,
Acting Reports Clearance Officer, Centers for Disease Control and Prevention.

[FR Doc. 2010-1719 Filed 1-27-10; 8:45 am]

BILLING CODE 4163-18-P